DEPARTMENT OF HEALTH AND HUMAN SERVICES

Agency for Healthcare Research and Quality

CHIPRA Pediatric Quality Measures Program: Request for Nominations for Expert Panelists

AGENCY: Agency for Healthcare Research and Quality (AHRQ), HHS.

ACTION: Notice of request for nominations for expert panelists.

SUMMARY: This notice requests members of the public to nominate experts to provide individual input into the CHIPRA Pediatric Quality Measures Program. Section 401(a) of the Children's Health Insurance Program Reauthorization Act (CHIPRA) of 2009 (Pub. L. 111-3) amended the Social Security Act (the Act) by adding Section 1139A, which directs the Secretary of the Department of Health and Human Services (HHS) to establish a Pediatric Quality Measures Program. The purpose of the Pediatric Quality Measures Program is to (a) Improve and strengthen the initial core child health care quality measures established pursuant to Section 1139A(a) of the Act; (b) expand on existing quality measures used by public and private health care purchasers and advance the development of such new and emerging quality measures; and (c) increase the portfolio of evidence-based, consensus pediatric quality measures available to public and private purchasers of children's health care services, providers, and consumers. A meeting of the experts will be held on September 18, 2011, in Bethesda, Maryland. We are seeking experts who can provide individual comment on the criteria by which new or enhanced children's health care quality measures will be evaluated. Expert panels will be convened in subsequent years to evaluate new or enhanced children's health care quality measures using these criteria. These evaluations will take place annually before recommended changes to the core set of children's health care quality measures are published in the Federal Register on or before January 1, 2013; January 1, 2014; and December 31, 2014. The initial core set of children's health care quality measures was published December 29, 2009, in Volume 74, No. 248 of the Federal Register.

Section 1139A(b) of the Act identifies several minimum criteria that the core set of children's health care quality measures must meet and requires consultation with stakeholders in identifying gaps in existing pediatric quality measures and establishing priorities for development and advancement of such measures. AHRQ will convene a group of experts representing a broad range of stakeholder groups. These experts will be asked to provide individual comments on the additional aspects of validity, feasibility, importance, understandability, or other criteria that should be considered when reviewing quality measures. They will also be asked to provide individual comments on the documentation required to provide evidence that each criterion has been met.

We seek nominations for a panel of 15 experts that will include representatives from among the following groups: State Medicaid Programs and Children's Health Insurance Programs (CHIP); pediatricians, children's hospitals, and other primary and specialized pediatric health care professionals (including members of the allied health professions) who specialize in the care and treatment of children, particularly children with special physical, mental, and developmental health care needs; dental professionals, including pediatric dental professionals; health care providers that furnish primary health care to children and families who live in urban and rural medically underserved communities or who are members of distinct population sub-groups at heightened risk for poor health outcomes; national organizations representing children, including children with disabilities and children with chronic conditions; national organizations representing consumers and purchasers of children's health care; national organizations and individuals with expertise in pediatric health quality measurement; and voluntary consensus standards setting organizations and other organizations involved in the advancement of evidence-based measures of health care. Individuals, who are affiliated with the CHIPRA PQMP Centers of Excellence as subcontractors, stakeholders, or key personnel (“affiliated individuals”), are not eligible to apply. However, other individuals from entities represented by the affiliated individuals are eligible to apply.

We are seeking individuals who are distinguished in their knowledge of health care disparities (e.g., racial and ethnic disparities), child health quality measurement methods, and the application of health information technology to quality measurement. Individuals are particularly sought with experience and success in activities specified in the summary above.

DATES: Nominations should be received on or before 21 days after date of publication.

ADDRESSES: Nominations should be e-mailed to chipra@AHRQ.hhs.gov. Nominations may also be mailed to Edwin Lomotan, AHRQ, 540 Gaither Road, Room 2202, Rockville, Maryland 20850.

FOR FURTHER INFORMATION CONTACT: chipra@AHRQ.hhs.gov.

SUPPLEMENTARY INFORMATION: Section 401(a) of the Children's Health Insurance Program Reauthorization Act (CHIPRA) of 2009 (Pub. L. 111-3) amended the Social Security Act (the Act) by adding Section 1139A, which directs the Secretary of HHS to establish a Pediatric Quality Measures Program. Section 1139A(b)(3) of the Act provides that the Secretary of HHS shall consult with various entities in establishing priorities for development and advancement of children's health care quality measures. The Secretary delegated this task to the Centers for Medicare & Medicaid Services (CMS). The Centers for Medicare & Medicaid Services (CMS) entered into an Interagency Agreement with the Agency for Healthcare Research and Quality (AHRQ), by which CMS and AHRQ would collaborate to develop the Pediatric Quality Measures Program.

Under the Pediatric Quality Measures Program, AHRQ has funded seven Centers of Excellence through cooperative agreements under the funding opportunity announcement HS11-001, the CHIPRA PQMP Centers of Excellence. For more information, see http://www.AHRQ.gov/chipra/PQMPFACT.htm. These seven Centers of Excellence, in concert with two CMS-funded CHIPRA Quality Demonstration grantee States (Massachusetts and Illinois), will develop new and enhanced children's health care quality measures and will participate in the process to identify and refine criteria by which new or enhanced children's health care quality measures will be evaluated.

The expected time commitment for expert panelists is up to 3 days. This includes travel to and from the expert panel meeting to be held on September 18, 2011, as one of the pre-meetings to the AHRQ Annual Conference in Bethesda, Maryland; review of materials in advance of the in-person meeting; and attendance at the full-day in-person meeting on September 18, 2011.

Interested persons may nominate one or more qualified persons for the expert panel. Self-nominations are accepted. Nominations shall include: (1) A copy of the nominee's resume or curriculum vitae; (2) a statement of the stakeholder group or groups that the nominee would represent, from among the following: State Medicaid Programs and Children's Health Insurance Programs (CHIP); pediatricians, children's hospitals, and other primary and specialized pediatric health care professionals (including members of the allied health professions) who specialize in the care and treatment of children, particularly children with special physical, mental, and developmental health care needs; dental professionals, including pediatric dental professionals; health care providers that furnish primary health care to children and families who live in urban and rural medically underserved communities or who are members of distinct population sub-groups at heightened risk for poor health outcomes; national organizations representing children, including children with disabilities and children with chronic conditions; national organizations representing consumers and purchasers of children's health care; national organizations and individuals with expertise in pediatric health quality measurement; and voluntary consensus standards setting organizations and other organizations involved in the advancement of evidence-based measures of health care; (3) a statement that the nominee is willing to serve as a member of the expert panel; (4) a statement about any financial interest, arrangement or affiliation with any entity that may create a potential conflict of interest for the nominee or his or her family; if any, please describe the relationship with each entity as either Grant/Research Support, Consultant, Speakers Bureau, Major Stock Shareholder, or Other Financial or Material Support; and (5) a statement about any intellectual interest in a study or other research related to children's health care quality measures, if any. Please note that once you are nominated, AHRQ may consider your nomination for future expert panels related to the Pediatric Quality Measures Program.

AHRQ strives to ensure that membership on expert panels is fairly balanced in terms of points of view represented and the panel's function. Every effort is made to ensure that the views of women, all ethnic and racial groups, and people with disabilities are represented on expert panels and, therefore, AHRQ encourages nominations of qualified candidates from these groups. AHRQ also encourages geographic diversity in the composition of expert panels. Selection of panelists shall be made without discrimination on the basis of age, race, ethnicity, gender, sexual orientation, disability, and cultural, religious, or socioeconomic status.

Dated: May 27, 2011.
Carolyn M. Clancy,
Director, AHRQ.

[FR Doc. 2011-14112 Filed 6-8-11; 8:45 am]

BILLING CODE M